DEPARTMENT OF LABOR

Employment and Training Administration

[TA-W-75,152; TA-W-75,152A]

Pratt and Whitney; A Subsidiary of United Technologies Corporation Cheshire Engine Center Including On-Site Leased Workers From Belcan Techservices, Universal Staffing and Kelly Services Cheshire, Connecticut; Pratt and Whitney A Subsidiary of United Technologies Corporation Far Group and Experimental Test Group East Hartford, Connecticut; Amended Certification Regarding Eligibility to Apply for Worker Adjustment Assistance

In accordance with Section 223 of the Trade Act of 1974, as amended (“Act”), 19 U.S.C. 2273, the Department of Labor issued a Certification of Eligibility to Apply for Worker Adjustment Assistance on February 25, 2011, applicable to workers of Pratt and Whitney, Cheshire Engine Center, a subsidiary of United Technologies Corporation, including on-site leased workers from Belcan TechServices, Universal Staffing, and Kelly Services, Cheshire, Connecticut. The workers provide engine repair services. The notice was published in the Federal Register on March 10, 2011 (76 FR 13233).

At the request of Connecticut State agency, the Department reviewed the certification for workers of the subject firm.

New company information shows that the East Hartford, Connecticut location of Pratt and Whitney, a subsidiary of United Technologies Corporation, FAR Group and Experimental Test Group, supplies/supports and operates as an extension of the Cheshire, Connecticut location of Pratt and Whitney, a subsidiary of United Technologies Corporation, Cheshire Engine Center. Both locations experienced worker separations during the relevant time period, due to the subject firm shifting its' overhaul and engine repair services to Singapore.

Accordingly, the Department is amending the certification to include workers of the East Hartford, Connecticut facility of Pratt & Whitney, a subsidiary of United Technologies Corporation, FAR Group and Experimental Test Group.

The amended notice applicable to TA-W-75,152 is hereby issued as follows:

“All workers of Pratt and Whitney, a subsidiary of United Technologies Corporation, Cheshire Engine Center, including on-site leased workers from Belcan TechServices, Universal Staffing, and Kelly Services, Cheshire, Connecticut (TA-W-75,152) and Pratt and Whitney, a subsidiary of United Technologies Corporation, FAR Group and Experimental Test Group, East Hartford, Connecticut (TA-W-75,152)), who became totally or partially separated from employment on or after January 11, 2010 through February 25, 2013, and all workers in the group threatened with total or partial separation from employment on the date of certification through two years from the date of certification, are eligible to apply for adjustment assistance under Chapter 2 of Title II of the Trade Act of 1974, as amended.”

Signed in Washington, DC, this 27th day of March 2012.
Del Min Amy Chen,
Certifying Officer, Office of Trade Adjustment Assistance.

[FR Doc. 2012-8500 Filed 4-9-12; 8:45 am]

BILLING CODE 4510-FN-P